DEPARTMENT OF AGRICULTURE

Forest Service

Shoshone National Forest, Wyoming, Notice of New Fee Site; Granger-Thye Act of April 24, 1950 (16 U.S.C. 572 and 580d)

AGENCY: Forest Service, USDA.

ACTION: Notice of new fee sites.

SUMMARY: The Shoshone National Forest will be issuing a Special Use Permit to a Concessionaire(s) to maintain, manage and rent overnight to the public, eight administrative cabins. These cabins are located at various sites on the Greybull Ranger District, Shoshone National Forest. The fee charged will vary from $20 to $100 per night, depending on the type of structure, occupancy capacity and the amenities available. Overnight rental of cabins on adjacent National Forests have shown that publics appreciate and enjoy the availability of historic rental cabins. Funds from the rentals will be used for the continued operation and maintenance of these structures.

DATES: The cabins will become available for rent January 1, 2008.

ADDRESSES: Forest Supervisor, Shoshone National Forest, 808 Meadow Lane Ave., Cody, WY 82414.

FOR FURTHER INFORMATION CONTACT: Joe Hicks, Rangeland Management Specialist, 307-527-6921.

SUPPLEMENTARY INFORMATION: A Special Use Permit is currently issued by the Shoshone National Forest for the purpose of overnight cabin rental. This structure is often fully booked and the concept well received by the public. A comparison of other cabin rental programs indicates that the $20 to $100 per night fee is both reasonable and acceptable for these types of facilities and recreational experience.

People wanting to rent these cabins will need to do so through the National Recreation Reservation Service, at http://www.reserveusa.com or by calling 1-877-444-6777. The National Recreation Reservation Service charges a $9 fee for reservations.

Dated: March 5, 2007.
Rebecca Aus,
Shoshone National Forest, Forest Supervisor.

[FR Doc. 07-1310 Filed 3-16-07; 8:45 am]

BILLING CODE 3410-11-M